DEPARTMENT OF HEALTH AND HUMAN SERVICES

Centers for Disease Control and Prevention

National Institute for Occupational Safety and Health; Meeting

The National Institute for Occupational Safety and Health (NIOSH) at the Centers for Disease Control and Prevention (CDC) announces the following meeting.

Name: Continue Discussions on the Approval of Respiratory Devices Used to Protect Workers in Hazardous Environments.

Times and Dates: 8 a.m.-11:30 a.m., April 10, 2003. 8 a.m.-11:30 a.m., April 24, 2003.

Place: Marriott Key Bridge, 1401 Lee Highway, Arlington, Virginia (April 10); Colorado School of Mines, 1500 Illinois Street, Golden, Colorado (April 24).

Status: These meetings are hosted by NIOSH and will be open to the public, limited only by the space available. The meeting room at each location will accommodate approximately 75 people. Interested parties should make hotel reservations directly with the Marriott Key Bridge (703-524-6400/800-327-9789) in Arlington, Virginia, or the Golden Hotel (303-279-0100/800-233-7214) in Golden, Colorado, referencing the NIOSH/NPPTL Public Meeting. Interested parties should confirm their attendance to either meeting by completing a registration form and forwarding it by e-mail (confserv@netl.doe.gov) or fax (304-285-4459) to the Event Management Office. A registration form may be obtained from the NIOSH Homepage (http://www.cdc.gov/niosh) by selecting Conferences and then the event.

Requests to make presentations at the public meeting should be mailed to the NIOSH Docket Officer, Robert A. Taft Laboratories, M/S C34, 4676 Columbia Parkway, Cincinnati, Ohio 45226, Telephone 513-533-8303, Fax 513-533-8285, E-mail niocindocket@cdc.gov. All requests to present should contain the name, address, telephone number, relevant business affiliations of the presenter, a brief summary of the presentation, and the approximate time requested for the presentation. Oral presentations should be limited to 15 minutes.

After reviewing the requests for presentation, NIOSH will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given the opportunity at the conclusion of the meeting, at the discretion of the presiding officer.

Comments on the topics presented in this notice and at the meetings should be mailed to the NIOSH Docket Office, Robert A. Taft Laboratories, M/S C34, 4676 Columbia Parkway, Cincinnati, Ohio 45226, Telephone 513-533-8303, Fax 513-533-8285. Comments may also be submitted by e-mail to niocindocket@cdc.gov. E-mail attachments should be formatted as WordPerfect 6/7/8/9 or Microsoft Word. Comments should be submitted to NIOSH no later than June 1, 2003, and should reference docket number, NIOSH 05, in the subject heading.

Purpose: The National Institute for Occupational Safety and Health, in consultation with the Mine Safety and Health Administration (MSHA), is in the process of developing a proposed rule on the performance and reliability requirements of close-circuit self-contained escape breathing apparatus. Examples include self-contained self-rescuers (SCSRs) as used in the mining industry and emergency escape breathing apparatus (EEBD). The purpose of these meetings is to provide an opportunity for an exchange of information between NIOSH and respirator manufacturers, industry representatives, labor representatives, and others with an interest in respiratory protection. Attendees will be given an opportunity to ask questions; submit verbal and written comments they wish to have included in the regulatory record; and provide individual input into potential changes to the applicable regulations and policies.

NIOSH and MSHA have not determined the final content of its proposed rulemaking but is considering the regulatory actions listed below. NIOSH and MSHA are specifically asking for comments on these proposed actions, but would also welcome comments on additional areas that the commenters believe may need to be addressed.

NIOSH and MSHA are considering:

(1) Proposing to use Breathing and Metabolic Simulators (BMS) to uniformly evaluate the life support performance of these respirators. The intent is to uniformly classify protection according to the length of time that the apparatus provides a breathable gas supply, measuring that performance to depletion. It is further proposed to retain certain elements of human subject testing;

(2) Proposing new ruggedness and reliability requirements such as a minimum shock and vibration standards, and means for unambiguous determination of continued functionality at the approved level;

(3) Proposing new safety requirements such as fire and explosion risk assessments to assure that the units do not introduce any new hazards in the deployment environment;

(4) Proposing to require the inclusion of fog resistant eye protection from gas and vapor hazards;

(5) Proposing to require post-deployment audits of approved apparatus;

(6) Proposing to require unit registration as a condition of certification.

FOR ADDITIONAL INFORMATION CONTACT: Event Management, P.O. Box 880, 3610 Collins Ferry Road, Morgantown, WV 26507, Telephone 304-285-4750, Fax 304-285-4459, E-mail confserv@netl.doe.gov.

The Director, Management Analysis and Services Office, has been delegated the authority to sign Federal Register Notices pertaining to announcements of meetings and other committee management activities, for both the Centers for Disease Control and Prevention and the Agency for Toxic Substances and Disease Registry.

Dated: March 14, 2003.
Alvin Hall,
Director, Management Analysis and Services Office, Centers for Disease Control and Prevention.

[FR Doc. 03-6683 Filed 3-19-03; 8:45 am]

BILLING CODE 4163-18-P